DEPARTMENT OF LABOR

Employment and Training Administration

[TA-W-70,812]

Performance Fibers Operations, Inc., Salisbury Plant, Including On-Site Leased Workers From Mundy Maintenance, Services And Operations, LLC, and UTi Integrated Logistics, Salisbury, NC; Amended Certification Regarding Eligibility To Apply for Worker Adjustment Assistance

In accordance with Section 223 of the Trade Act of 1974, as amended (“Act”), 19 U.S.C. 2273, the Department of Labor issued a Certification of Eligibility to Apply for Worker Adjustment Assistance on July 7, 2009, applicable to workers of Performance Fibers Operations, Inc., Salisbury Plant, Salisbury, North Carolina. The notice will be published soon in the Federal Register.

At the request of company officials, the Department reviewed the certification for workers of the subject firm. The workers are engaged in the production of polyester tire cord and high denier industrial yarn.

The company reports that on-site leased workers from Mundy Maintenance, Services and Operations, LLC and UTi Integrated Logistics were inadvertently omitted from the certification.

Based on these findings, the Department is amending this certification to include workers leased from Mundy Maintenance, Services and Operations, LLC and UTi Integrated Logistics working on-site at the Salisbury, North Carolina location of Performance Fibers Operations, Inc., Salisbury Plant. Workers are sufficiently under control of Performance Fibers Operations to be considered leased workers.

The amended notice applicable to TA-W-70,812 is hereby issued as follows:

“All workers of Performance Fibers Operations, Inc., Salisbury Plant, including on-site leased workers from Mundy Maintenance, Services and Operations, LLC and UTi Integrated Logistics, Salisbury, North Carolina, who became totally or partially separated from employment on or after May 29, 2008 through July 7, 2011, and all workers in the group threatened with total or partial separation from employment on July 7, 2009 through July 7, 2011, are eligible to apply for adjustment assistance under Chapter 2 of Title II of the Trade Act of 1974, as amended.”

Signed at Washington, DC, this 23rd day of July 2009.
Richard Church,
Certifying Officer, Division of Trade Adjustment Assistance.

[FR Doc. E9-18653 Filed 8-4-09; 8:45 am]

BILLING CODE 4510-FN-P